DEPARTMENT OF LABOR

Employment and Training Administration

[TA-W-57,163]

Premier Refractories Snow Show, PA; Notice of Termination of Investigation

Pursuant to section 221 of the Trade Act of 1974, as amended, an investigation was initiated on May 12, 2005 in response to a worker petition filed by a company official on behalf of workers at Premier Refractories, Snow Shoe, Pennsylvania.

The petitioner has requested that the petition be withdrawn. Consequently, further investigation would serve no purpose and the investigation has been terminated.

Signed at Washington, DC, this 22nd day of June, 2005.
Elliott S. Kushner,
Certifying Officer, Division of Trade Adjustment Assistance.

[FR Doc. E5-3761 Filed 7-14-05; 8:45 am]

BILLING CODE 4510-30-P